DEPARTMENT OF STATE

[Public Notice 4935]

Determination Pursuant to Section 212(a)(3)(B)(vi)(II) of the Immigration and Nationality Act, as Amended, Placing Al Manar on the Terrorist Exclusion List

Acting under the authority of Section 212(a)(3)(B)(vi)(II) of the Immigration and Nationality Act, as amended (INA), 8 U.S.C. 1182(a)(3)(B)(vi)(II), and in consultation with the Attorney General and the Secretary of Homeland Security, the Secretary of State has concluded that Al Manar is a “terrorist organization” within the meaning of that section of the INA.

This notice shall be published in the Federal Register, and is effective upon publication.

Dated: December 15, 2004.
William P. Pope,
Coordinator for Counterterrorism, Acting, Department of State.

[FR Doc. 04-27801 Filed 12-16-04; 5:00 pm]

BILLING CODE 4710-10-P